DEPARTMENT OF ENERGY

Federal Energy Regulatory Commission

[Docket No. RP00-581-000]

Transwestern Pipeline Company; Notice of Proposed Changes in FERC Gas Tariff

October 3, 2000.

Take notice that on September 29, 2000, Transwestern Pipeline Company (Transwestern), tendered for filing to become part of Transwestern's FERC Gas Tariff, Second Revised Volume No. 1, the following tariff sheet proposed to become effective on November 1, 2000:

Eleventh Revised Sheet No. 5B.02

Transwestern's Stipulation and Agreement filed on May 2, 1995, in Docket Nos. RP95-271 et al., as amended by Transwestern's Stipulation and Agreement filed on May 21, 1996, provided for adjustments to the Settlement Base Rates (SBRs) beginning November 1, 1998.

Transwestern states that the purpose of this filing is to set forth the factors and calculations used in determining the adjustments to the SBRs and to revise the SBRs to be effective November 1, 2000.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to be come a party must file a motion to intervene. Copies of this filing are on file with the Commission and are available for public inspection in the Public Reference Room. This filing may be viewed on the web at http://www.ferc.fed.us/online/rims.htm (call 202-208-2222 for assistance).

David P. Boergers,
Secretary.

[FR Doc. 00-25842 Filed 10-6-00; 8:45 am]

BILLING CODE 6717-01-M